DEPARTMENT OF EDUCATION

[Docket No.: ED-2017-ICCD-0004]

Agency Information Collection Activities; Comment Request; Study of Weighted Student Funding Systems

AGENCY: Office of Planning, Evaluation and Policy Development (OPEPD), Department of Education (ED).

ACTION: Notice.

SUMMARY: In accordance with the Paperwork Reduction Act of 1995, ED is proposing a new information collection.

DATES: Interested persons are invited to submit comments on or before March 24, 2017.

ADDRESSES: To access and review all the documents related to the information collection listed in this notice, please use http://www.regulations.gov by searching the Docket ID number ED-2017-ICCD-0004. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 224-84, Washington, DC 20202-4537.

FOR FURTHER INFORMATION CONTACT: For specific questions related to collection activities, please contact Jacob Schak, 202-453-5643.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Study of Weighted Student Funding Systems.

OMB Control Number: 1875—NEW.

Type of Review: A new information collection.

Respondents/Affected Public: State, Local, and Tribal Governments.

Total Estimated Number of Annual Responses: 125.

Total Estimated Number of Annual Burden Hours: 189.

Abstract: The purpose of this study is to examine districts that have implemented weighted student funding (WSF) systems. In doing so, the study team will investigate how these systems for funding schools have been implemented, the benefits in terms of enhanced school funding equity and improved resource allocation practices through more equitable distributions of funding to schools and increased principal autonomy, and the challenges each district may have faced in undertaking such a reform. To this end, the study team will conduct site visits to a set of nine case study districts that will involve in-person interviews with district officials and school staff involved in WSF system administration. In addition, the study team will collect and review relevant extant data (budget and audited expenditure files) and administer surveys to a nationally representative sample of principals and school district administrators.

Dated: January 17, 2017.
Kate Mullan,
Acting Director, Information Collection Clearance Division, Office of the Chief Privacy Officer, Office of Management.

[FR Doc. 2017-01328 Filed 1-19-17; 8:45 am]

BILLING CODE 4000-01-P